DEPARTMENT OF AGRICULTURE

Forest Service

Assessment Report of Ecological, Economic and Social Conditions, Trends and Sustainability for the Santa Fe National Forest

AGENCY: Santa Fe National Forest, Forest Service, USDA.

ACTION: Notice of initiating the assessment phase of the forest plan revision for the Santa Fe National Forest.

SUMMARY: The Santa Fe National Forest (Forest), located in northern New Mexico, is initiating the first phase of the forest planning process pursuant to the 2012 National Forest System land management planning rule. This process will result in a revised forest land management plan (Forest Plan) which describes the strategic direction for management of forest resources on the Santa Fe National Forest for the next ten to fifteen years. The first phase of the process, the assessment phase, is beginning on the Santa Fe National Forest and interested parties are invited to contribute in the development of the assessment. The Forest will be hosting public forums throughout April and May 2014 where we will invite the public to share information relevant to the assessment including existing information, current trends, and local knowledge.

DATES: Public meetings associated with the development of the assessment are anticipated throughout April and May 2014 and will be announced on our Web site www.fs.usda.gov/goto/SantaFeForestPlan and to individuals and organizations on our mailing list. The assessment for the Santa Fe National Forest is anticipated to be completed in early 2015. Following completion of the assessment, the Forest will initiate procedures pursuant to the National Environmental Policy Act (NEPA) to prepare and evaluate a revised forest plan.

ADDRESSES: Written correspondence can be sent to: Santa Fe National Forest, Attn: Forest Plan, 11 Forest Lane, Santa Fe, NM 87508, or emailed to SantaFeForestPlan@fs.fed.us.

FOR FURTHER INFORMATION CONTACT: Jennifer Cramer, Forest Planner, Santa Fe National Forest, 11 Forest Lane, Santa Fe, New Mexico 87508. More information on our plan revision process can be found on our Web site at www.fs.usda.gov/goto/SantaFeForestPlan. If you have questions or would like to sign-up for our mailing list, you can email SantaFeForestPlan@fs.fed.us or call our Plan Revision number: 505-438-5442. Individuals who use telecommunication devices for the deaf (TDD) may call the Federal Information Relay Service (FIRS) at 1-800-877-8339 between 8 a.m. and 8 p.m., Eastern Time, Monday through Friday.

SUPPLEMENTARY INFORMATION: The National Forest Management Act (NFMA) of 1976 requires that every National Forest System (NFS) unit develop a land management plan (LMP). On April 9, 2012, the Forest Service finalized its land management planning rule (2012 Planning Rule, 36 CFR 291), which describes requirements for the planning process and the content of the land management plans. Forest plans describe the strategic direction for management of forest resources for ten to fifteen years, and are adaptive and amendable as conditions change over time.

Under the 2012 Planning Rule, the assessment of ecological, social, and economic conditions and trends is the first stage of the planning process (36 CFR 219.6). The second stage, formal plan revision, involves the development of our Forest Plan in conjunction with the preparation of an Environmental Impact Statement under the NEPA. The third stage of the process is monitoring and feedback, which is ongoing over the life of the revised forest plans.

The Santa Fe National Forest is initiating its assessment pursuant to 2012 Forest Planning Rule. The assessment rapidly evaluates existing information about relevant ecological, economic, cultural and social conditions, trends, and sustainability and their relationship to land management plans within the context of the broader landscape. This information builds a common understanding prior to entering formal plan revision. The development of the assessment will include public engagement.

With this notice, the Santa Fe National Forest invites other governments, non-governmental parties, and the public to contribute in assessment development. The intent of public engagement during development of the assessment is to identify as much relevant information as possible to inform the upcoming plan revision process. We encourage contributors to share material about existing conditions, trends, and perceptions of social, economic, and ecological systems relevant to the planning process. The assessment also supports the development of relationships with key stakeholders that will be used throughout the plan revision process.

As we develop public engagement opportunities to assist with the assessment phase of forest plan revision, public announcements will be made and information will be posted on the Forest's Web site: www.fs.usda.gov/goto/SantaFeForestPlan. If you would like to contribute to the process or for more information, please call 505-438-5442, email SantaFeForestPlan@fs.fed.us, or contact Jennifer Cramer, Forest Planner, Santa Fe National Forest, 505-438-5449.

Responsible Official

The responsible official for the revision of the land management plan for the Santa Fe National Forest is Maria T. Garcia, Forest Supervisor, Santa Fe National Forest, 11 Forest Lane, Santa Fe, New Mexico 87508.

Dated: February 21,2014.
Maria T. Garcia,
Forest Supervisor.

[FR Doc. 2014-04906 Filed 3-5-14; 8:45 am]

BILLING CODE 3410-11-P